FEDERAL MARITIME COMMISSION

Notice of Availability of Service Contract Inventories

AGENCY: Federal Maritime Commission.

ACTION: Notice of availability of service contract inventories.

FOR FURTHER INFORMATION CONTACT: Karen V. Gregory, Secretary at 202-523-5725, or secretary@fmc.gov.

In accordance with Section 743 of Division C of the Consolidated Appropriations Act of 2010 (Pub. L. 111-117), the Federal Maritime Commission is publishing this notice to advise the public of the availability of the FY 2011 Service Contract Inventory Analysis, the FY 2012 Service Contract Inventory, and the FY 2012 Service Contract Inventory Planned Analysis. The FY 2011 inventory analysis provides information on specific service contract actions that were analyzed as part of the FY 2011 inventory. The FY 2012 inventory provides information on service contract actions over $25,000 that were made in FY 2012. The inventory information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The FY 2012 inventory planned analysis provides information on which functional areas will be reviewed by the agency. The Federal Maritime Commission has posted its FY 2012 inventory, FY 2012 inventory analysis, and FY 2011 inventory analysis at the following link: http://www.fmc.gov/bureaus_offices/office_of_management_services.aspx.

Authority: Sec. 743, Pub. L.111-117.

Karen V. Gregory,
Secretary.

[FR Doc. 2013-06317 Filed 3-19-13; 8:45 am]

BILLING CODE 6730-01-P